DEPARTMENT OF HEALTH AND HUMAN SERVICES

Administration for Community Living

[OMB No. 0985-0067]

Agency Information Collection Activities; Submission for OMB Review; Public Comment Request; The Study on the Impact of COVID-19 on Adult Protective Service (APS) Programs

AGENCY: Administration for Community Living, HHS.

ACTION: Notice.

SUMMARY: The Administration for Community Living is announcing that the proposed collection of information listed above has been submitted to the Office of Management and Budget (OMB) for review and clearance as required under the Paperwork Reduction Act of 1995. This 30-Day notice collects comments on the information collection requirements related to requirements related to the extension with change to the Study on the impact of COVID-19 on Adult Protective Service (APS) Programs.

DATES: Submit written comments on the collection of information by March 29, 2021.

ADDRESSES: Submit written comments and recommendations for the proposed information collection within 30 days of publication of this notice to www.reginfo.gov/public/do/PRAMain Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Stephanie Whittier Eliason, Administration for Community Living, Washington, DC 20201 Phone: (202) 795-7467 Email: Stephanie.WhittierEliason@acl.hhs.gov.

SUPPLEMENTARY INFORMATION: In compliance with 44 U.S.C. 3507, ACL has submitted the following proposed collection of information to OMB for review and clearance. The Administration for Community Living (ACL) requests an extension with change to the approved data collection for a study on the impact of COVID-19 on Adult Protective Service (APS) Programs (OMB 0985-0067). Some elder advocates and law enforcement officers believe that the opioid epidemic is contributing to the increase in elder abuse.¹ Even during the COVID-19 epidemic, regular press, briefs and editorials continue to report that the opioid abuse is still rising. Aging services and APS networks are likely to deal with more complex clients with opioid-related issues, placing enormous pressure on health care systems, emergency response services, law enforcement and other community services.2 3 4

¹ Benson, W.F; Aldrich, N. Raising Awareness and Seeking Solutions to the Opioid Epidemic's Impact on Rural Older Adults.

² Blog Post (March 4, 2019): https://eldermistreatment.usc.edu/opioids-and-elder-abuse-a-disquieting-connection/.

³ Washington Post Article (June 17, 2019): https://www.washingtonpost.com/business/2019/06/17/how-opioid-crisis-is-leading-elder-financial-abuse/?utm_term=.594b4dd84d9d.

⁴ https://eldermistreatment.usc.edu/missouris-aps-response-to-the-opioid-crisis/.

In the context of COVID-19, we need to make extra efforts to look at these challenges and look for ways to effectively meet the needs of these clients. The purpose of this 7-month study is to understand the nature, extent, and impact of opioids on older adults and their families by interviewing APS staff. The study will look magnitude and characteristics of these cases. It will look at what investigative methods and challenges are specific to opioid cases. Because of the COVID-19 pandemic, attention will also be made to the effects of pandemic on client circumstances, service gaps and needs, and outcomes. These are the objectives of the study:

• Identify the scope and characteristics of APS caseloads involving opioid abuse before and during COVID-19

• Identify investigative methods used and challenges to using these methods

• Identify interventions used and challenges to implementing these interventions

• Identify additional services needed

• Identify challenges that are particular to the COVID-19 pandemic

• Assist ACL and other federal partners in targeting needed resources to have the highest impact

Findings from this important study will shed light on what and how to improve APS responses to opioid-related cases. Findings will be distributed via the APS-TARC website, a technical assistance resource center for APS programs. ACL will also explore other opportunities where findings can be shared via blogs, briefs, conference presentations and webinars.

Comments in Response to the 60-Day Federal Register Notice

ACL published a 60-day Federal Register Notice in the Federal Register soliciting public comments on this request. The 60-day FRN published on December 1, 2020, Vol. 85, No. 231 page 77217. There were no public comments received.

Estimated Annualized Burden Hours
Form name | Number of respondents | Number of responses per respondent | Total responses | Average burden per response (in hours) | Total burden hours
APS Administrator Interview Guide | 12 | 1 | 12 | .75 | 9
APS Local Staff Interview Guide | 60 | 1 | 60 | .75 | 45
Total |  |  |  |  | 54

Dated: February 19, 2021.
Alison Barkoff,
Acting Administrator and Assistant Secretary for Aging.

[FR Doc. 2021-03867 Filed 2-24-21; 8:45 am]

BILLING CODE 4154-01-P